SECURITIES AND EXCHANGE COMMISSION

[Release No. 34-85586; File No. SR-CboeBYX-2018-014]

Self-Regulatory Organizations; Cboe BYX Exchange, Inc.; Notice of Withdrawal of Proposed Rule Change To Make Permanent Exchange Rule 11.24, Which Sets Forth the Exchange's Pilot Retail Price Improvement Program

April 10, 2019.

On July 30, 2018, Cboe BYX Exchange, Inc. (“BYX” or the “Exchange”) filed with the Securities and Exchange Commission (the “Commission”), pursuant to Section 19(b)(1) of the Securities Exchange Act of 1934 (“Act”) ¹ and Rule 19b-4 thereunder,² a proposed rule change to make permanent Exchange Rule 11.24, which sets forth the Exchange's pilot Retail Price Improvement Program. The proposed rule change was published for comment in the Federal Register on August 17, 2018.³ On September 27, 2018, the Commission extended to November 15, 2018, the time period in which to approve, disapprove, or institute proceedings to determine whether to approve or disapprove, the proposed rule change.⁴ On November 15, 2018, the Commission instituted proceedings under Section 19(b)(2)(B) of the Act ⁵ to determine whether to approve or disapprove the proposed rule change.⁶ On December 26, 2018, pursuant to Section 19(b)(2) of the Act,⁷ the Commission extended to April 14, 2019 the time period in which to issue an order approving or disapproving the proposed rule change.⁸ The Commission received no comments on the proposed rule change. On April 3, 2019, the Exchange withdrew the proposed rule change (SR-CboeBYX-2018-014).

¹ 15 U.S.C. 78s(b)(1).

² 17 CFR 240.19b-4.

³ See Securities Exchange Act Release No. 83831 (August 13, 2018), 83 FR 41128 (“Notice”).

⁴ See Securities Exchange Act Release No. 84297, 83 FR 49959 (October 3, 2018).

⁵ 15 U.S.C. 78(s)(b)(2)(B).

⁶ See Securities Exchange Act Release No. 84600, 83 FR 58802 (November 21, 2018).

⁷ 15 U.S.C. 78s(b)(2).

⁸ See Securities Exchange Act Release No. 84972, 84 FR 867 (January 31, 2019).

For the Commission, by the Division of Trading and Markets, pursuant to delegated authority.⁹
⁹ 17 CFR 200.30-3(a)(12).
Eduardo A. Aleman,
Deputy Secretary.

[FR Doc. 2019-07507 Filed 4-15-19; 8:45 am]

BILLING CODE 8011-01-P